DEPARTMENT OF ENERGY

Federal Energy Regulatory Commission

[Docket No. RP01-430-000]

Florida Gas Transmission Company; Notice of Tariff Filing

June 1, 2001.

Take notice that on May 25, 2001, Florida Gas Transmission Company (FGT) tendered for filing as part of its FERC Gas Tariff, Third Revised Volume No. 1, the following tariff sheet to become effective June 25, 2001:

Second Revised Sheet No. 135A

FGT states that it is filing the revised tariff sheet to update the permissible types of transportation discounts that may be granted by FGT, in a manner consistent with FERC approved discounts on other pipelines. In Docket No. RP99-353-000, Florida Gas Transmission Company, 88 FERC Paragraph 61,093 (1999), the Commission approved revised tariff sheets filed by FGT on June 23, 1999, granting FGT the right to use six (6) types of transportation discounts without having to file the discount agreement as a material deviation from the pro forma service agreements, consistent with the Commission's ruling in Natural Gas Pipeline Company of America, 84 FERC ¶ 61,099 (1998) and subsequent orders.

FGT further states that the revised tariff sheet filed herewith further modifies the General Terms and Conditions (GTC) of FGT's Tariff which are applicable to the various transportation Rate Schedules to add language thereto to provide for another permissible form of discounting.

FGT states that in addition its ability to agree to a basic discount from the stated maximum rates, FGT proposes to revise the GTC by adding additional language to provide for upward or downward adjustments to rate components to achieve an agreed upon overall rate so long as all rate components remain within their respective minimum and maximum amounts. FGT further states that the tariff language proposed herein incorporates the requirement that such adjustments made to discrete rate components not exceed the maximum amount nor be less than the minimum amount for that component established as the basis of the underlying rate design method (straight-fixed variable), and that they be made only prospectively, and that they not affect the determination of refunds that may be due under applicable law for the time prior to the adjustment of such components.

FGT states that copies of the filing were mailed to all customers served under the rate schedules affected by the filing and the interested state commissions.

Any person desiring to be heard or to protest said filing should file a motion to intervene or a protest with the Federal Energy Regulatory Commission, 888 First Street, NE., Washington, DC 20426, in accordance with Sections 385.214 or 385.211 of the Commission's Rules and Regulations. All such motions or protests must be filed in accordance with Section 154.210 of the Commission's Regulations. Protests will be considered by the Commission in determining the appropriate action to be taken, but will not serve to make protestants parties to the proceedings. Any person wishing to become a party must file a motion to intervene. Copies of this filing are on file with the Commission and are available for public inspection in the Public Reference Room. This filing may be viewed on the web at http://www.ferc.fed.us/online/rims.htm (call 202-208-2222 for assistance). Comments, protests, and interventions may be filed electronically via the internet in lieu of paper. See, 18 CFR 385.2001(a)(1)(iii) and the instructions on the Commission's web site at http://www.ferc.fed.us/efi/doorbell.htm.

David P. Boergers,
Secretary.

[FR Doc. 01-14348 Filed 6-6-01; 8:45 am]

BILLING CODE 6717-01-M